COMMITTEE FOR PURCHASE FROM PEOPLE WHO ARE BLIND OR SEVERELY DISABLED

Procurement List; Additions and Deletions

AGENCY: Committee for Purchase From People Who Are Blind or Severely Disabled.

ACTION: Additions to and deletions from the procurement list.

SUMMARY: This action adds to the Procurement List commodities and services to be furnished by nonprofit agencies employing persons who are blind or have other severe disabilities, and deletes from the Procurement List commodities previously furnished by such agencies.

EFFECTIVE DATE: February 19, 2001.

ADDRESSES: Committee for Purchase From People Who Are Blind or Severely Disabled, Jefferson Plaza 2, Suite 10800, 1421 Jefferson Davis Highway, Arlington, Virginia 22202-3259.

FOR FURTHER INFORMATION CONTACT: Louis R. Bartalot (703) 603-7740.

SUPPLEMENTARY INFORMATION: On November 13, November 17 and November 24, the Committee for Purchase From People Who Are Blind or Severely Disabled published notices (65 FR 67714, 69499 and 70459) of proposed additions to and deletions from the Procurement List:

Additions

After consideration of the material presented to it concerning capability of qualified nonprofit agencies to provide the commodities and services and impact of the additions on the current or most recent contractors, the Committee has determined that the commodities and services listed below are suitable for procurement by the Federal Government under 41 U.S.C. 46-48c and 41 CFR 51-2.4.

I certify that the following action will not have a significant impact on a substantial number of small entities. The major factors considered for this certification were:

1. The action will not result in any additional reporting, recordkeeping or other compliance requirements for small entities other than the small organizations that will furnish the commodities and services to the Government.

2. The action will not have a severe economic impact on current contractors for the commodities and services.

3. The action will result in authorizing small entities to furnish the commodities and services to the Government.

4. There are no known regulatory alternatives which would accomplish the objectives of the Javits-Wagner-O'Day Act (41 U.S.C. 46-48c) in connection with the commodities and services proposed for addition to the Procurement List.

Accordingly, the following commodities and services are hereby added to the Procurement List:

Commodities

Sorbents, Chemical and Oil

4235-01-441-0246

4235-01-441-0248

4235-01-451-8744

4235-01-453-5159

4235-01-456-8571

4235-01-456-8575

4235-01-456-8858

4235-01-456-8862

4235-01-456-9893

4235-01-456-9899

4235-01-457-0005

4235-01-457-0031

4235-01-457-0421

4235-01-457-0431

4235-01-457-0518

4235-01-457-0658

4235-01-457-0663

4235-01-457-0677

4235-01-457-0678

Services

Food Service

Kirtland Air Force Base, New Mexico

Grounds Maintenance

Department of Energy, Nevada Support Facility, 232 Energy Way, North Las Vegas, Nevada

Janitorial/Custodial

Depot Maintenance Industrial Fund, Tinker Air Force Base, Oklahoma

This action does not affect current contracts awarded prior to the effective date of this addition or options that may be exercised under those contracts.

Deletions

I certify that the following action will not have a significant impact on a substantial number of small entities. The major factors considered for this certification were:

1. The action will not result in any additional reporting, recordkeeping or other compliance requirements for small entities.

2. The action will not have a severe economic impact on future contractors for the commodities and services.

3. The action will result in authorizing small entities to furnish the commodities and services to the Government.

4. There are no known regulatory alternatives which would accomplish the objectives of the Javits-Wagner-O'Day Act (41 U.S.C. 46-48c) in connection with the commodities and services deleted from the Procurement List.

After consideration of the relevant matter presented, the Committee has determined that the commodities listed below are no longer suitable for procurement by the Federal Government under 41 U.S.C. 46-48c and 41 CFR 51-2.4. Accordingly, the following commodities are hereby deleted from the Procurement List:

Commodities

Arming Adapter, Self Adjusting

1325-01-158-8635

1325-01-159-8083

Air Freshener Deodorant, General Purpose

6840-00-932-4692

Envelope, Wallet

7530-00-281-4844

7530-00-281-4846

Louis R. Bartalot,
Deputy Director (Operations).

[FR Doc. 01-1647 Filed 1-19-01; 8:45 am]

BILLING CODE 6353-01-P